GENERAL SERVICES ADMINISTRATION

[OMB Control No. 3090-0027; Docket No. 2024-0001; Sequence No. 8]

Information Collection; General Services Administration Acquisition Regulation; Contract Administration and Quality Assurance (GSA Forms 1678 and 308)

AGENCY: Office of Acquisition Policy, General Services Administration (GSA).

ACTION: Notice and request for comments.

SUMMARY: In accordance with the Paperwork Reduction Act of 1995, and the Office of Management and Budget (OMB) regulations, GSA invites the public to comment on a request to review and approve an extension of a previously approved information collection requirement regarding GSA clauses and Forms that assist with contract administration and quality assurance (i.e., monitoring, delivery, and inspection) of supply orders.

DATES: Submit comments on or before: November 12, 2024.

ADDRESSES: Submit comments regarding this burden estimate or any other aspect of this collection of information, including suggestions for reducing this burden to http://www.regulations.gov. Submit comments via the Federal eRulemaking portal by searching the OMB Control number 3090-0027. Select the link “Comment Now” that corresponds with “Information Collection 3090-0027, Contract Administration and Quality Assurance (GSA Forms 1678 and 308)”. Follow the instructions on the screen. Please include your name, company name (if any), and “Information Collection 3090-0027, Contract Administration and Quality Assurance (GSA Forms 1678 and 308)”, on your attached document.

If your comment cannot be submitted using https://www.regulations.gov, call or email the points of contact in the FOR FURTHER INFORMATION CONTACT section of this document for alternate instructions.

Instructions: Please submit comments only and cite “Information Collection 3090-0027, Contract Administration and Quality Assurance (GSA Forms 1678 and 308)”, in all correspondence related to this collection. Comments received generally will be posted without change to regulations.gov, including any personal and/or business confidential information provided. To confirm receipt of your comment(s), please check regulations.gov, approximately two-to-three business days after submission to verify posting.

FOR FURTHER INFORMATION CONTACT: Ms. Vernita Misidor, Procurement Analyst, General Services Acquisition Policy Division, at 202-357-9681 or via email to vernita.misidor@gsa.gov.

SUPPLEMENTARY INFORMATION:

A. Purpose

Under certain contracts the Government must rely on contractor inspection in lieu of Government inspection. Therefore, GSA's Federal Acquisition Service requires documentation from its contractors to effectively monitor contractor performance and ensure that it will be able to take timely action should that performance be deficient.

B. Annual Reporting Burden

GSA Form 1678

Annual Responses: 250,0000.

Responses per Respondent: 1.

Total Annual Responses: 250,0000.

Hours per Response: 0.50.

Total Burden Hours: 125,000.

GSA Form 308

Annual Responses: 2,600.

Responses per Respondent: 1.

Total Annual Responses: 2,600.

Hours per Response: 0.50.

Total Burden Hours: 1,300.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the Regulatory Secretariat Division by calling 202-501-4755 or emailing GSARegSec@gsa.gov. Please cite OMB Control No. 3090-0027, Contract Administration, Quality Assurance (GSA Forms 1678 and 308), in all correspondence.

Jeffrey A. Koses,
Senior Procurement Executive, Office of Acquisition Policy, Office of Government-wide Policy.

[FR Doc. 2024-20387 Filed 9-9-24; 8:45 am]

BILLING CODE 6820-61-P